DEPARTMENT OF ENERGY

Federal Energy Regulatory Commission

Combined Notice of Filings #1

Take notice that the Commission received the following electric corporate filings:

Docket Numbers: EC24-45-000.

Applicants: Altona Solar, LLC, BCD 2024 Fund 2 Lessee, LLC.

Description: Joint Application for Authorization Under Section 203 of the Federal Power Act of Altona Solar, LLC, et al.

Filed Date: 1/29/24.

Accession Number: 20240129-5253.

Comment Date: 5 p.m. ET 2/20/24.

Take notice that the Commission received the following Complaints and Compliance filings in EL Dockets:

Docket Numbers: EL24-65-000.

Applicants: City of Tacoma, Department of Public Utilities, Light Division Tacoma Power v. California Independent System Operator Corporation.

Description: Complaint of City of Tacoma, Department of Public Utilities, Light Division Tacoma Power, v. California Independent System Operator Corporation.

Filed Date: 1/29/24.

Accession Number: 20240129-5167.

Comment Date: 5 p.m. ET 2/20/24.

Take notice that the Commission received the following electric rate filings:

Docket Numbers: ER10-1580-019.

Applicants: Saguaro Power Company LP.

Description: Notice of Non-Material Change in Status of Saguaro Power Company, A Limited Partnership.

Filed Date: 1/26/24.

Accession Number: 20240126-5238.

Comment Date: 5 p.m. ET 2/16/24.

Docket Numbers: ER10-1946-016; ER14-1468-013.

Applicants: KMC Thermo, LLC, Broad River Energy LLC.

Description: Supplement to October 31, 2022, Notice of Non-Material Change in Status of Broad River Energy LLC, et. al.

Filed Date: 11/20/23.

Accession Number: 20231120-5233.

Comment Date: 5 p.m. ET 2/20/24.

Docket Numbers: ER19-2343-004; ER10-2798-020; ER10-2799-020; ER10-2878-021; ER10-2879-020; ER21-2423-008; ER21-2424-008; ER22-1449-004; ER22-1450-004.

Applicants: GB II New Haven LLC, GB II Connecticut LLC, Generation Bridge M&M Holdings, LLC, Generation Bridge Connecticut Holdings, LLC, Montville Power LLC, Middleton Power LLC, Devon Power LLC, Connecticut Jet Power LLC, 2018 ESA Project Company, LLC.

Description: Notice of Non-Material Change in Status of 2018 ESA Project Company, LLC, et. al.

Filed Date: 1/30/24.

Accession Number: 20240130-5164.

Comment Date: 5 p.m. ET 2/20/24.

Docket Numbers: ER21-2818-003.

Applicants: Tri-State Generation and Transmission Association, Inc.

Description: Compliance filing: Revisions on Compliance to Rate Schedule No. 281 to be effective 11/1/2021.

Filed Date: 1/25/24.

Accession Number: 20240125-5214.

Comment Date: 5 p.m. ET 2/15/24.

Docket Numbers: ER22-784-004.

Applicants: CPV Maple Hill Solar, LLC.

Description: Notice of Change in Status of CPV Maple Hill Solar, LLC.

Filed Date: 1/30/24.

Accession Number: 20240130-5159.

Comment Date: 5 p.m. ET 2/20/24.

Docket Numbers: ER22-2689-001; ER22-2850-001

Applicants: Fall River Solar, LLC, MTSun LLC.

Description: Notice of Non-Material Change in Status of MTSun LLC, et. al.

Filed Date: 1/30/24.

Accession Number: 20240130-5145.

Comment Date: 5 p.m. ET 2/20/24.

Docket Numbers: ER23-2441-001.

Applicants: Chevelon Butte RE II LLC.

Description: Notice of Change in Status of Chevelon Butte RE II LLC.

Filed Date: 1/30/24.

Accession Number: 20240130-5149.

Comment Date: 5 p.m. ET 2/20/24.

Docket Numbers: ER23-2450-001.

Applicants: Great Cove Solar LLC.

Description: Notice of Change in Status of Great Cove Solar LLC.

Filed Date: 1/30/24.

Accession Number: 20240130-5154.

Comment Date: 5 p.m. ET 2/20/24.

Docket Numbers: ER23-2451-001.

Applicants: Great Cove Solar II LLC.

Description: Notice of Change in Status of Great Cove Solar II LLC.

Filed Date: 1/30/24.

Accession Number: 20240130-5158.

Comment Date: 5 p.m. ET 2/20/24.

Docket Numbers: ER23-2456-001.

Applicants: Platteview Solar, LLC.

Description: Notice of Change in Status of Platteview Solar, LLC.

Filed Date: 1/30/24.

Accession Number: 20240130-5153.

Comment Date: 5 p.m. ET 2/20/24.

Docket Numbers: ER24-465-001.

Applicants: Nestlewood Solar I LLC.

Description: Compliance filing: Informational Filing Pursuant to Schedule 2 of the PJM OATT & Request for Waiver to be effective N/A.

Filed Date: 1/30/24.

Accession Number: 20240130-5043.

Comment Date: 5 p.m. ET 2/20/24.

Docket Numbers: ER24-1037-000.

Applicants: Dominion Energy Services, Inc.

Description: Request for Limited Waiver, Shortened Comment Period, and Expedited Consideration of Dominion Energy Services, Inc.

Filed Date: 1/26/24.

Accession Number: 20240126-5235.

Comment Date: 5 p.m. ET 2/9/24.

Docket Numbers: ER24-1039-000.

Applicants: Altona Solar, LLC.

Description: Baseline eTariff Filing: Altona Solar, LLC MBR Tariff to be effective 3/29/2024.

Filed Date: 1/29/24.

Accession Number: 20240129-5175.

Comment Date: 5 p.m. ET 2/20/24.

Docket Numbers: ER24-1040-000.

Applicants: BCD 2024 Fund 2 Lessee, LLC.

Description: Baseline eTariff Filing: BCD 2024 Fund 2 Lessee, LLC MBR Tariff to be effective 3/29/2024.

Filed Date: 1/29/24.

Accession Number: 20240129-5177.

Comment Date: 5 p.m. ET 2/20/24.

Docket Numbers: ER24-1041-000.

Applicants: Keystone Appalachian Transmission Company, PJM Interconnection, L.L.C.

Description: § 205(d) Rate Filing: Keystone Appalachian Transmission Company submits tariff filing per 35.13(a)(2)(iii: KATCo submits amended IAs, SA Nos. 1395 and 2532 re: FirstEnergy Reorganization to be effective 1/1/2024.

Filed Date: 1/29/24.

Accession Number: 20240129-5219.

Comment Date: 5 p.m. ET 2/20/24.

Docket Numbers: ER24-1042-000.

Applicants: FirstEnergy Pennsylvania Electric Company, PJM Interconnection, L.L.C.

Description: § 205(d) Rate Filing: FirstEnergy Pennsylvania Electric Company submits tariff filing per 35.13(a)(2)(iii: FE PA submits amended IA, SA No. 4577 re: FirstEnergy Reorganization to be effective 1/1/2024.

Filed Date: 1/30/24.

Accession Number: 20240130-5059.

Comment Date: 5 p.m. ET 2/20/24.

Docket Numbers: ER24-1043-000.

Applicants: FirstEnergy Pennsylvania Electric Company, PJM Interconnection, L.L.C.

Description: § 205(d) Rate Filing: FirstEnergy Pennsylvania Electric Company submits tariff filing per 35.13(a)(2)(iii: FE PA submits Amended IA, SA No. 4362 re: FirstEnergy Organization to be effective 1/1/2024.

Filed Date: 1/30/24.

Accession Number: 20240130-5076.

Comment Date: 5 p.m. ET 2/20/24.

Docket Numbers: ER24-1044-000.

Applicants: Pattern Energy Management Services LLC.

Description: § 205(d) Rate Filing: Notice of Change in Status for MBR Tariff and Waiver Requests to be effective 1/31/2024.

Filed Date: 1/30/24.

Accession Number: 20240130-5089.

Comment Date: 5 p.m. ET 2/20/24.

Docket Numbers: ER24-1045-000.

Applicants: PJM Interconnection, L.L.C.

Description: § 205(d) Rate Filing: Amendment to ISA No. 7079 re: FirstEnergy Reorg (amend) to be effective 1/1/2024.

Filed Date: 1/30/24.

Accession Number: 20240130-5102.

Comment Date: 5 p.m. ET 2/20/24.

Docket Numbers: ER24-1046-000.

Applicants: SR McNeal, LLC.

Description: Compliance filing: Notice of Change in Status and Revised Market-Based Rate Tariff to be effective 1/31/2024.

Filed Date: 1/30/24.

Accession Number: 20240130-5113.

Comment Date: 5 p.m. ET 2/20/24.

Docket Numbers: ER24-1047-000.

Applicants: PJM Interconnection, L.L.C.

Description: Tariff Amendment: FE PA submits Cancellation of IAs SA Nos. 4692 and 5115 re: FE Reorg to be effective 1/1/2024.

Filed Date: 1/30/24.

Accession Number: 20240130-5131.

Comment Date: 5 p.m. ET 2/20/24.

Docket Numbers: ER24-1048-000.

Applicants: Public Service Company of New Mexico.

Description: § 205(d) Rate Filing: Third Revised WAPA NITSA/NOA to be effective 1/1/2024.

Filed Date: 1/30/24.

Accession Number: 20240130-5134.

Comment Date: 5 p.m. ET 2/20/24.

Docket Numbers: ER24-1049-000.

Applicants: NorthWestern Energy Public Service Corporation.

Description: Baseline eTariff Filing: New Baseline—Rate Schedules to be effective 1/31/2024.

Filed Date: 1/30/24.

Accession Number: 20240130-5152.

Comment Date: 5 p.m. ET 2/20/24.

Docket Numbers: ER24-1050-000.

Applicants: Gridflex Generation, LLC.

Description: § 205(d) Rate Filing: Market-Based Rate Tariff Update to Reflect Change in Seller's Category Status to be effective 3/30/2024.

Filed Date: 1/30/24.

Accession Number: 20240130-5156.

Comment Date: 5 p.m. ET 2/20/24.

Docket Numbers: ER24-1051-000.

Applicants: PJM Interconnection, L.L.C.

Description: Tariff Amendment: FE PA submits Cancellation of IA, SA No. 5114 re: FE Reorganization to be effective 1/1/2024.

Filed Date: 1/30/24.

Accession Number: 20240130-5165.

Comment Date: 5 p.m. ET 2/20/24.

Docket Numbers: ER24-1052-000.

Applicants: PJM Interconnection, L.L.C.

Description: Tariff Amendment: FE PA submits Cancellation of IA, SA No. 5111 re: FE Reorganization to be effective 1/1/2024.

Filed Date: 1/30/24.

Accession Number: 20240130-5172.

Comment Date: 5 p.m. ET 2/20/24.

Docket Numbers: ER24-1053-000.

Applicants: Wisconsin Public Service Corporation.

Description: § 205(d) Rate Filing: Filing of MSA_RS No. 103 and WDA_RS No. 104 to be effective 2/1/2024.

Filed Date: 1/30/24.

Accession Number: 20240130-5182.

Comment Date: 5 p.m. ET 2/20/24.

Docket Numbers: ER24-1054-000.

Applicants: OnPoint Energy Northeast, LLC.

Description: Tariff Amendment: Notice of Cancellation of Market-Based Rate Tariff to be effective 1/31/2024.

Filed Date: 1/30/24.

Accession Number: 20240130-5193.

Comment Date: 5 p.m. ET 2/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov .

Dated: January 30, 2024.
Debbie-Anne A. Reese,
Acting Secretary.

[FR Doc. 2024-02206 Filed 2-2-24; 8:45 am]

BILLING CODE 6717-01-P